NATIONAL AERONAUTICS AND SPACE ADMINISTRATION

[Notice (02-043)]

Notice of Prospective Patent License

AGENCY: National Aeronautics and Space Administration.

ACTION: Notice of prospective patent license.

SUMMARY: NASA hereby gives notice that Fiber Materials,Inc., of Biddeford, Maine, has applied for a partially exclusive license to practice the invention described in NASA Case No. MSC-23314-1, entitled “Flexible Multi-Shock Shield,” for which a U.S. Patent Application was filed and assigned to the United States of America as represented by the Administrator of the National Aeronautics and Space Administration. Written objections to the prospective grant of a license should be sent to Johnson Space Center.

DATE(S): Responses to this notice must be received by April 10, 2002.

FOR FURTHER INFORMATION CONTACT: James Cate, Patent Attorney, NASA Johnson Space Center, Mail Stop HA, Houston, TX 77058-8452; telephone (281) 483-1001.

Dated: March 19, 2002.
Paul G. Pastorek,
General Counsel.

[FR Doc. 02-7240 Filed 3-25-02; 8:45 am]

BILLING CODE 7510-01-P